CONSUMER PRODUCT SAFETY COMMISSION

[Docket No. CPSC-2012-0057]

Submission for OMB Review; Comment Request—Requirements for Electrically Operated Toys and Children's Articles

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information associated with the Commission's safety standard for electrically operated toys and children's articles.

DATES: Written comments on this request for extension of approval of information collection requirements should be submitted by January 25, 2013.

ADDRESSES: To ensure that comments on the information collection are received, the OMB recommends that written comments be faxed to the Office of Information and Regulatory Affairs, OMB, Attn: CPSC Desk Officer, FAX: 202-395-6974, or emailed to oira_submission@omb.eop.gov. All comments should be identified by Docket No. CPSC-2012-0057. In addition, written comments also should be submitted at http://www.regulations.gov, under Docket No. CPSC-2012-0057, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; Telephone: 301-504-7923 or by email to: rsquibb@cpsc.gov.

SUPPLEMENTARY INFORMATION: In the Federal Register of October 4, 2012, and October 17, 2012 (77 FR 60685, 77 FR 63799), the Consumer Product Safety Commission published a notice in accordance with provisions of the Paperwork Reduction Act of 1995 (44 U.S.C. Chapter 35) to announce the agency's intention to seek extension of approval of the collection of information required in the Requirements for Electrically Operated Toys or Other Electrically Operated Articles Intended for Use by Children (16 CFR Part 1505). No comments were received in response to that notice. Therefore, by publication of this notice, the Commission announces that it has submitted to the Office of Management and Budget (OMB) a request for extension of approval of that collection of information without change.

The regulations in Part 1505 establish performance and labeling requirements for electrically operated toys and children's articles to reduce unreasonable risks of injury to children from electric shock, electrical burns, and thermal burns associated with those products. Section 1505.4(a)(3) of the regulations requires manufacturers and importers of electrically operated toys and children's articles to maintain records for 3 years containing information about: (1) Material and production specifications; (2) the quality assurance program used; (3) results of all tests and inspections conducted; and (4) sales and distribution of electrically operated toys and children's articles.

The records of testing and other information required by the regulations allow the Commission to determine if electrically operated toys and children's articles comply with the requirements of the regulations in part 1505. If the Commission determines that products fail to comply with the regulations, this information also enables the Commission and the firm to: (i) identify specific lots or production lines of products which fail to comply with applicable requirements; and (ii) notify distributors and retailers in the event those products are subject to recall.

We estimate that about 40 firms are subject to the testing and recordkeeping requirements of the regulations. Each one may have an average of 10 products each year, for which testing and recordkeeping would be required, resulting in approximately 400 records. We estimate that the tests required by the regulations can be performed on one product in 16 hours and that recordkeeping can be performed for one product in 4 hours. Thus, the estimated testing burden hours are 6,400 (16 hours x 400), and the estimated recordkeeping burden hours are 1,600 hours (400 records x 4 hours).

In addition, we estimate that each firm may spend 30 minutes or less per model on the labeling requirements. Assuming each firm produces 10 new models each year, the estimated labeling burden hours are 200 hours (40 firms x 10 models per firm x 0.5 hours per model = 200 hours) per year. The estimated total burden hours for recordkeeping and labeling are 1,800 hours for all firms (1,600 hours for recordkeeping + 200 hours for labeling). The hourly wage for the time required to perform the required testing and recordkeeping is approximately $61.75 (Bureau of Labor Statistics: total compensation for management, professional, and related workers in goods-producing private industries: http://www.bls.gov/ncs, and the hourly wage for the time required to maintain the labeling requirements is approximately $27.64 (Bureau of Labor Statistics, total compensation for all sales and office workers in goods-producing, private industries: http://www.bls.gov/ncs). The annualized total cost to the industry is estimated to be $444,952 (6,400 × $61.75 + 1,800 × $27.64).

Dated: December 20, 2012.
Todd A. Stevenson,
Secretary, Consumer Product Safety Commission.

[FR Doc. 2012-30990 Filed 12-21-12; 4:15 pm]

BILLING CODE 6355-01-P